DEPARTMENT OF LABOR

Employment and Training Administration

[TA-W-42,053]

Arnold Tool & Die Works, Inc., Council Bluffs, Iowa; Notice of Termination of Investigation

Pursuant to section 221 of the Trade Act of 1974, an investigation was initiated on September 3, 2002 in response to a worker petition, which was filed by a company official on behalf of workers at Arnold Tool & Die Works, Inc., Council Bluffs, Iowa.

The petitioner has requested that the petition be withdrawn. Consequently, further investigation in this case would serve no purpose, and the investigation has been terminated.

Signed in Washington, DC this 9th day of October, 2002.
Elliott S. Kushner,
Certifying Officer, Division of Trade Adjustment Assistance.

[FR Doc. 02-26756 Filed 10-21-02; 8:45 am]

BILLING CODE 4510-30-P